DEPARTMENT OF DEFENSE

Department of the Army

Availability for Non-Exclusive, Exclusive, or Partially Exclusive Licensing of U.S. Patent Application Concerning Catheter Securing Device

AGENCY: Department of the Army, DOD.

ACTION: Notice.

SUMMARY: In accordance with 37 CFR 404.6 and 404.7, announcement is made of the availability for licensing of U.S. Patent Application No. 09/894,880 entitled “Catheter Securing Device,” filed June 29, 2001. Foreign rights (PCT/US01/20772) are also available. The United States Government, as represented by the Secretary of the Army has rights in this invention.

ADDRESSES: Commander, U.S. Army Medical Research and Material Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: A securing device for a catheter such as an endotracheal tube that preferably includes a guard that covers a patient's upper or lower teeth and a latch mounted on the guard for release ably immobilizing a catheter with respect to the guard. The guard preferably includes (or is attached to) a wedge, which contacts the patient's molars to prevent the guard from shifting in the patient's mouth and assists in keeping the patients teeth apart.

Luz D. Ortiz,
Army Federal Register Liaison Officer.

[FR Doc. 02-19713 Filed 8-2-02; 8:45 am]

BILLING CODE 3710-08-M